SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions to OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer at the following addresses or fax numbers.

(OMB), Office of Management and Budget, Attn: Desk Officer for SSA. Fax: 202-395-6974. E-mail address: OIRA_Submission@omb.eop.gov.

(SSA), Social Security Administration, DCBFM. Attn: Reports Clearance Officer. 1333 Annex Building, 6401 Security Blvd., Baltimore, MD 21235. Fax: 410-965-6400. E-mail address: OPLM.RCO@ssa.gov.

I. The information collections below are pending at SSA. SSA will submit them to OMB within 60 days from the date of this notice. To be sure we consider your comments, we must receive them no later than January 11, 2011. Individuals can obtain copies of the collection instruments by calling the SSA Reports Clearance Officer at 410-965-8783 or by writing to the above e-mail address.

1. Advanced Notice of Termination of Child's Benefits & Student's Statement Regarding School Attendance—20 CFR 404.350-404.352, 404.367-404.368—0960-0105. SSA collects information on Forms SSA-1372-BK and SSA-1372-BK-FC to determine whether children of an insured worker meet the eligibility requirements for student benefits. The data we collect allows SSA to determine student entitlement and whether to terminate benefits. The respondents are student claimants for Social Security benefits, their respective schools, and, in some cases, their representative payees.

Type of Request: Revision of an OMB-approved information collection.

SSA-1372-BK:

Type of respondent | Number of respondents | Frequency of response | Average burden per response (minutes) | Total annual burden (hours)
Individuals/Households | 99,850 | 1 | 8 | 13,313
State/Local/Tribal Government | 99,850 | 1 | 3 | 4,993
Totals | 199,700 |  |  | 18,306

SSA-1372-BK-FC:

Type of respondent | Number of respondents | Frequency of response | Average burden per response (minutes) | Total annual burden (hours)
Individuals/Households | 150 | 1 | 8 | 20
State/Local/Tribal Government | 150 | 1 | 3 | 8
Totals | 300 |  |  | 8

Total Burden: 18,334 hours.

2. Agreement to Sell Property—20 CFR 416.1240-1245—0960-0127. Individuals or couples who are otherwise eligible for Supplemental Security Income (SSI) benefits, but their resources exceed the allowable limit, may receive conditional payments if they agree to dispose of the excess non-liquid resources and (in the case of current recipients) return excess SSI payments. SSA uses Form SSA-8060-U3 to document this agreement and to ensure the individuals understand their obligations. Respondents are applicants for and recipients of SSI payments who agree to dispose of excess non-liquid resources.

Type of Request: Revision of an OMB-approved information collection.

Number of Respondents: 20,000.

Frequency of Response: 1.

Average Burden per Response: 10 minutes.

Estimated Annual Burden: 3,333 hours.

3. Epidemiological Research Report—20 CFR 401.165—0960-0701. Section 311 of the Social Security Independence and Program Improvements Act of 1994 directs SSA to provide support to health researchers involved in epidemiological research. Specifically, when we determine a study contributes to a national health interest, SSA furnishes information to determine whether a study subject appears in SSA administrative records as alive or deceased (vital status). SSA charges a small fee per request for providing this information. Web-posted questions solicit the information SSA needs to provide the data and to collect the fees. The requestors are scientific researchers who are applying to receive vital status information about individuals from Social Security administrative data records.

Type of Request: Revision of an OMB-approved information collection.

Type of respondent | Number of respondents | Frequency of response | Average burden per response (minutes) | Total annual burden (hours)
State & Local Government | 15 | 1 | 120 | 30
Private Entities | 13 | 1 | 120 | 26
Federal Entities | 2 | 1 | 120 | 4
Totals | 30 |  |  | 60

Cost Burden:

Average annual cost per respondent (based on SSA data): $3,665.

Total estimated annual cost burden: $109,950.

II. SSA has submitted the information collections listed below to OMB for clearance. Your comments on the information collections would be most useful if OMB and SSA receive them within 30 days from the date of this publication. To be sure we consider your comments, we must receive them no later than December 13, 2010. You can obtain a copy of the OMB clearance packages by calling the SSA Reports Clearance Officer at 410-965-8783 or by writing to the above e-mail address.

1. Statement of Agricultural Employer (Year Prior to 1988; and 1988 and Later)—20 CFR 404.702, 404.802, 404.1056—0960-0036. SSA collects information on Forms SSA-1002-F3 and SSA-1003-F3 to resolve discrepancies when farm workers allege their employers did not report their wages, or reported the wages incorrectly. If an agricultural employer incorrectly reported wages, or failed to report any wages for an employee, SSA must attempt to correct its records by contacting the employer to obtain convincing evidence of the wages. The respondents are agricultural employers who have information about their employees' wages.

Type of Request: Revision of an OMB-approved information collection.

Form No. | Number of respondents | Frequency of response | Average burden per response (minutes) | Total annual burden (hours)
SSA-1002 | 7,500 | 1 | 30 | 3,750
SSA-1003 | 25,000 | 1 | 30 | 12,500
Total | 32,500 |  |  | 16,250

2. Student Reporting Form—20 CFR 404.367 & 404.368—0960-0088. Sections 20 CFR 404.367 and 404.368 of the Code of Federal Regulations provide a student beneficiary must attend an educational institution full-time to qualify for Social Security benefits. SSA requires beneficiaries to report events that may cause a reduction, termination, or suspension of their benefits. SSA collects information on Form SSA-1383 to determine if the change or event a student reports affects continuing entitlement to Social Security benefits. We also use the information to determine the correct benefit amounts. The respondents are Social Security student beneficiaries.

Type of Request: Revision of an OMB-approved information collection.

Form No. | Number of respondents | Frequency of response | Average burden per response (minutes) | Total annual burden (hours)
SSA-1383 | 74,887 | 1 | 6 | 7489
SSA-1383-FC | 113 | 1 | 6 | 11
Total | 75,000 |  |  | 7,500

3. Protection and Advocacy for Beneficiaries of Social Security (PABSS)—Grant Awardees/Protection and Advocacy for Beneficiaries of Social Security (PABSS)— Beneficiaries—20 CFR 435.51-435.52—0960-0768. In August of 2004, SSA announced its intention to award grants to establish community-based protection and advocacy projects in every State and U.S. Territory, as authorized under section 1150 of the Social Security Act. Potential awardees were protection and advocacy organizations (under Title I of the Developmental Disabilities Assistance and Bill of Rights Act) that submitted a timely application conforming to the requirements shown in the 2004 announcement. The projects SSA funds under the PABSS program are part of SSA's strategy to increase the number of beneficiaries who return to work and achieve self-sufficiency as the result of advocacy or other services. The overall goal of the program is to provide information and advice about obtaining vocational rehabilitation and employment services, and to provide advocacy or other services a beneficiary with a disability may need to secure, maintain, or regain gainful employment.

The PABSS Semi-Annual Program Performance Report collects statistical information from the various protection and advocacy (P&A) projects to manage program performance. SSA uses the information to evaluate the efficacy of the program and to ensure beneficiaries are receiving the dollars appropriated for PABSS services. The project data is valuable to SSA in its analysis of, and future planning for, the Social Security Disability Insurance (SSDI) and SSI programs. The respondents are the 57 designated P&A project system sites (in each of the 50 States, the District of Columbia, and the U.S. Territories), and beneficiaries of SSDI and SSI programs.

Type of Request: Revision of an OMB-approved information collection.

Type of respondent | Number of respondents | Frequency of response | Number of annual responses | Average burden per response (minutes) | Estimated annual burden (hours)
PABSS Program Grantees | 57 | 2 | 114 | 60 | 114
Beneficiaries | 5,000 | 1 | 1 | 15 | 1,250
Totals | 5,057 |  |  |  | 1,364

Dated: November 8, 2010.
Liz Davidson,
Center Director, Center for Reports Clearance, Social Security Administration.

[FR Doc. 2010-28511 Filed 11-10-10; 8:45 am]

BILLING CODE 4191-02-P